DEPARTMENT OF TRANSPORTATION

Federal Aviation Administration

Aviation Rulemaking Advisory Committee; Airport Certification Issues Meeting

AGENCY: Federal Aviation Administration (FAA), DOT.

ACTION: Notice of public meeting.

SUMMARY: This notice announces a public meeting of the Federal Aviation Administration's Aviation Rulemaking Advisory Committee to discuss Airport Certification issues.

DATES: The meeting will be held on June 21, 2001, from 1 p.m. to 5 p.m. Arrange for presentations by June 13, 2001.

ADDRESSES: The meeting will be held at the Federal Aviation Administration, 800 Independence Ave. SW., room 833, Washington, DC 20591.

FOR FURTHER INFORMATION CONTACT: Marisa Mullen, FAA, Office of Rulemaking (ARM-205), 800 Independence Avenue, SW., Washington, DC 20591, telephone (202) 267-7653, fax (202) 267-5075.

SUPPLEMENTARY INFORMATION: Pursuant to section 10(a)(2) of the Federal Advisory Committee Act (Pub. L. 92-463; 5 U.S.C. App II), notice is hereby given of a meeting of the Aviation Rulemaking Advisory Committee to be held on June 21, 2001, from 1 p.m. to 5 p.m. at the Federal Aviation Administration, 800 Independence Ave. SW., room 813, Washington, DC 20591. The agenda will include:

1. Opening Remarks

2. Committee Administration

3. ARAC Process Briefing

4. Friction Measurement and Signing Working Group Report and ARAC Decision

5. New Task—Rescue and Firefighting Requirements Working Group

6. Future Meetings

Attendance is open to the interested public but will be limited to the space available. The FAA will arrange teleconference capability for individuals wishing to participate by teleconference if we receive notification before June 13, 2001. Arrangements to participate by teleconference can be made by contacting the person listed in the FOR FURTHER INFORMATION CONTACT section. Callers outside the Washington Metropolitan area will be responsible for paying long distance charges.

The public must make arrangements by June 13, 2001, to present oral statements at the meeting. The public may present written statements to the committee at any time by providing 25 copies to the Assistant Executive Director, or by bringing the copies to the meeting. Public statements will only be considered if time permits. In addition, sign and oral interpretation, as well as an assistive listening device, can be made available, if requested 10 calendar days before the meeting. Arrangements may be made by contacting the person listed under the heading FOR FURTHER INFORMATION CONTACT.

Issued in Washington, DC, on May 30, 2001.
Ben Castellano,
Assistant Executive Director for Airport Certification Issues, Aviation Rulemaking Advisory Committee.

[FR Doc. 01-14108 Filed 6-4-01; 8:45 am]

BILLING CODE 4910-13-M